FEDERAL COMMUNICATIONS COMMISSION

Notice of Public Information Collection(s) Being Reviewed by the Federal Communications Commission, Comments Requested

April 11, 2006.

SUMMARY: The Federal Communications Commission, as part of its continuing effort to reduce paperwork burden, invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information, subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 19, 2006. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Leslie F. Smith, Federal Communications Commission, 445 12th Street, SW., Room 1-A804, Washington, DC 20554.

FOR FURTHER INFORMATION CONTACT: For additional information about the information collection(s) send an e-mail to PRA@fcc.gov or contact Leslie F. Smith at 202-418-0217.

SUPPLEMENTARY INFORMATION: OMB Control Number: 3060-0463.

Title: Telecommunications Relay Services and the Americans with Disabilities Act of 1990, Fifth Report and Order, CC Docket Nos. 90-571 and 98-67, FCC 02-269.

Form Number: N/A.

Type of Review: Extension of a currently approved collection.

Respondents: Business or other for-profit entities, state, local or tribal government.

Number of Respondents: 5,053.

Estimated Time per Response: 6 hours.

Frequency of Response: On occasion, Annual, Every five years, and One-time reporting requirements; Recordkeeping requirement; and Third party disclosure requirement.

Total Annual Burden: 26,837 hours.

Total Annual Cost: $0.

Privacy Impact Assessment: No.

Needs and Uses: On October 25, 2002, the Commission released the Fifth Report and Order, In the Matter of Telecommunications Relay Services and the Americans with Disabilities Act of 1990, (Report and Order), CC Docket Nos. 90-571 and 98-67, FCC 02-269. The Report and Order has eliminated the coin sent-paid requirement and has encouraged specific outreach and education programs to inform Telecommunications Relay Services (TRS) users of their options when placing calls from payphones. Because the Commission concluded that it is infeasible to provide coin sent-paid toll relay service through payphones at this time, and the coin sent-paid toll functionality was not necessary to achieve functional equivalence, carriers no longer needed to provide coin sent-paid toll TRS calls from payphones. The Report and Order has required carriers to continue to provide coin sent-paid local calls free to TRS users. The Report and Order has also required carriers via the Industry Team to submit a one time report on the efforts industry has made to educate consumers on how to make toll coin sent-paid calls.

Federal Communications Commission.
Marlene H. Dortch,
Secretary.

[FR Doc. E6-5563 Filed 4-18-06; 8:45 am]

BILLING CODE 6712-01-P